CONSUMER PRODUCT SAFETY COMMISSION

Privacy Act of 1974; Announcement of System of Records

AGENCY: Consumer Product Safety Commission.

ACTION: Amendment of system of records.

SUMMARY: The Consumer Product Safety Commission is amending its system of records “CPSC-15, Employee Relations Files” by revising the record retention section.

DATES: The changes will become effective June 18, 2001 unless comments are received which justify a contrary determination.

Comments must be received on or before June 18, 2001.

ADDRESSES: Comments should be sent to the Secretary, Consumer Product Safety Commission, Washington, DC 20207.

FOR FURTHER INFORMATION CONTACT: Joseph F. Rosenthal, Office of the General Counsel, Consumer Product Safety Commission, Washington, DC 20207. Telephone: (301) 504-0980.

SUPPLEMENTARY INFORMATION: This system of records currently covers both records concerning disciplinary actions, grievances and the like, as well as retirement records. We are changing the retention period for retirement records to make it clear that CPSC will keep only copies of the records for two years after the employee retires and send the originals to the Office of Personnel Management. We are also changing the retention period for the disciplinary records to seven years after a case is closed to be consistent with the National Archives and Records Administration's General Records Schedule 1, section 30, “Administrative Grievance, Disciplinary, and Adverse Action Files”.

Amend the retention section of CPSC-15 to read as follows:

CPSC-15, Employee Relations Files

Retention

(1) For documents relating to disciplinary actions, complaints, grievances, and potential adverse actions, destroy 7 years after case is closed.

(2) For retirement records, transfer the records to the Office of Personnel Managment after the employee retires, and retain copies for two years.

* * * * *

Dated: April 12, 2001.
Sadye E. Dunn,
Secretary, Consumer Product Safety Commission.

[FR Doc. 01-9514 Filed 4-17-01; 8:45 am]

BILLING CODE 6355-01-U